SMALL BUSINESS ADMINISTRATION

[Disaster Declaration #10854]

Iowa Disaster #IA-00007; Declaration of Economic Injury

AGENCY: U.S. Small Business Administration.

ACTION: Amendment 1.

SUMMARY: This is an amendment of an Economic Injury Disaster Loan (EIDL) declaration for the State of Iowa, dated 05/07/2007.

Incident: Winter Storms.

Incident Period: 02/23/2007 through 03/02/2007.

EFFECTIVE DATE: 05/07/2007.

EIDL Loan Application Deadline Date: 01/28/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Economic Injury declaration for the State of Iowa dated 04/27/2007, is hereby amended to include the following areas as adversely affected by the disaster.

Primary Counties: Clayton.

Contiguous Counties:

Iowa: Allamakee, Delaware, Dubuque, Winneshiek.

Wisconsin: Crawford, Grant.

All other information in the original declaration remains unchanged.

(Catalog of Federal Domestic Assistance Number 59002)

Dated: May 7, 2007.
Steven C. Preston,
Administrator.

[FR Doc. E7-9310 Filed 5-14-07; 8:45 am]

BILLING CODE 8025-01-P